Proclamation 7433 of May 4, 2001

Small Business Week, 2001

By the President of the United States of America

A Proclamation

Small business owners who work long hours, juggling family and career responsibilities and serving as community volunteers, are integral to our country's prosperity and to the vibrancy of our communities. These entrepreneurs are fundamental to our economy. Through the opportunities offered by the men and women who own and operate our Nation's 25.5 million small businesses, many of our citizens are able to pursue their dreams of a better life.

Federal, State, and local governments can help our small business owners by creating an environment in which the American spirit flourishes, an environment that promotes innovation, risk-taking, and equal opportunity. My Administration is working for lower taxes, reasonable regulations, and a reduction of tariffs and other barriers to free trade that will increase the competitive strength of our small business sector. Education reforms also will ensure that our young people are prepared to enter the global marketplace and small businesses will have the needed pool of talent.

Many of America's entrepreneurs risk everything to make their businesses successful. They are leaders of innovation, and their efforts create a wellspring of new technology, new products, and improved business processes. One of my priorities as President is to encourage that entrepreneurial spirit, and to see that it encompasses all Americans. To that end, we have instituted the New Freedom Initiative, which includes a component to help small businesses better serve customers with disabilities and to hire more people with disabilities. Also, my Administration supports the Drug Free Workplace Program, to help small businesses develop employee education programs and company drug policies. These are examples of our commitment to the ideal that the role of our Government is not to create business barriers, but to help our citizens overcome them.

America's small business owners and their employees represent more than half of the private workforce. These entrepreneurs, who create more than 75 percent of the net new jobs nationwide and generate more than 50 percent of the Nation's gross domestic product, and the employees who work in small businesses, deserve our thanks. We salute them by observing Small Business Week.

NOW, THEREFORE, I, GEORGE W. BUSH, President of the United States of America, by virtue of the authority vested in me by the Constitution and laws of the United States, do hereby proclaim May 6 through 12, 2001, as Small Business Week. I urge all Americans to join in observing this week with appropriate programs, ceremonies, and activities.

IN WITNESS WHEREOF, I have hereunto set my hand this fourth day of May, in the year of our Lord two thousand one, and of the Independence of the United States of America the two hundred and twenty-fifth.

B

[FR Doc. 01-11850

Filed 5-8-01; 8:45 am]

Billing code 3195-01-P